DEPARTMENT OF TRANSPORTATION

Office of the Secretary

[Docket No. DOT-OST-2012-0087]

Advisory Committee for Aviation Consumer Protection

AGENCY: Office of the Secretary (OST), Department of Transportation (DOT).

ACTION: Notice of third meeting of advisory committee.

SUMMARY: This notice announces the third meeting of the Advisory Committee for Aviation Consumer Protection.

DATES: The third meeting of the advisory committee is scheduled for October 2, 2012, from 9:00 a.m. to 5:00 p.m., Eastern Time.

ADDRESSES: The meeting will be held in the Oklahoma City Room (located on the lobby level of the West Building with capacity for approximately 100 attendees) at the U.S. Department of Transportation, 1200 New Jersey Avenue SE., Washington, DC. Attendance is open to the public up to the room's capacity; however, since access to the U.S. DOT headquarters building is controlled for security purposes, any member of the general public who plans to attend this meeting must notify the Department contact noted below at least five (5) calendar days prior to the meeting.

FOR FURTHER INFORMATION CONTACT: To register to attend the meeting, please contact Amanda Stokes, Associate Research Analyst, Centra Technology, Inc., stokesa@centratechnology.com; 703-894-6529. For other information please contact Nicholas Lowry, Senior Attorney, Office of the Assistant General Counsel for Aviation Enforcement and Proceedings, nick.lowry@dot.gov; U.S. Department of Transportation, 1200 New Jersey Ave. SE., Washington, DC 20590; 202-366-9342 (phone), 202-366-7152 (fax).

SUPPLEMENTARY INFORMATION: On May 24, 2012, the Secretary, as mandated by Section 411 of the FAA Modernization and Reform Act of 2012 (Pub. L. 112-95, 126 Stat. 11 (2012)), established the Advisory Committee on Aviation Consumer Protection and announced those persons appointed as members. Two earlier meetings of the committee were held on June 28 and August 7 of this year. The committee's charter, drafted in accordance with the Federal Advisory Committee Act (FACA), as amended, 5 U.S.C. App. 2, sets forth policies for the operation of the advisory committee and is available on the Department's Web site at http://www.dot.gov/affairs/2012/dot5912.html.

The third meeting of the committee is scheduled for October 2, 2012, from 9:00 a.m. to 5:00 p.m. Eastern Time in the Oklahoma City Room at the Department's headquarters, 1200 New Jersey Ave. SE., Washington, DC 20590. The agenda for that meeting will consist of a discussion by committee members of recommendations for proposed initiatives to be presented to the Secretary of Transportation. The charter provides that the committee present its recommendations to the Secretary by October 15, 2012, and every effort will be made to submit the Committee's recommendations by that date.

As announced in the notices of previous meetings of the committee, the meeting will be open to the public, and, time permitting, comments by members of the public are invited. Since access to the U.S. DOT headquarters building is controlled for security purposes, we ask that any member of the general public who plans to attend the third meeting notify the Department contact noted above no later than five (5) calendar days prior to the meeting. Attendance will be necessarily limited by the size of the meeting room.

Members of the public may present written comments at any time. The docket number referenced above (OST-2012-0087, available at https://www.regulations.gov) has been established for committee documents including any written comments that may be filed. At the discretion of the Chairperson and time permitting, after completion of the planned agenda, individual members of the public may provide oral comments. Any oral comments presented must be limited to the objectives of the committee and will be limited to five (5) minutes per person. Individual members of the public who wish to present oral comments must notify the Department contact noted above via email that they wish to attend and present oral comments at least five (5) calendar days prior to the meeting. This meeting, however, will be primarily devoted to discussion among committee members of possible initial recommendations to the Secretary which are due on October 15, 2012. In light of this agenda and the time constraints imposed by the committee's charter, we anticipate that the time available for oral presentations and comments by the general public will be significantly more limited than in prior meetings.

Persons with a disability who plan to attend the meeting and require special accommodations, such as an interpreter for the hearing impaired, should notify the Department contact noted above at least seven (7) calendar days prior to the meeting. Persons attending with a service animal should also advise us of that fact so that it can be taken into account in connection with space and possible allergy issues.

Notice of this meeting is being provided in accordance with the FACA and the General Services Administration regulations covering management of Federal advisory committees. (41 CFR part 102-3.)

Issued in Washington, DC, on August 28, 2012.
Samuel Podberesky,
Assistant General Counsel for Aviation Enforcement & Proceedings, U.S. Department of Transportation.

[FR Doc. 2012-21616 Filed 8-31-12; 8:45 am]

BILLING CODE 4910-9X-P